DEPARTMENT OF AGRICULTURE

Forest Service

Wrangell-Petersburg Resource Advisory Committee

AGENCY: Forest Service, USDA.

ACTION: Notice of meeting.

SUMMARY: The Wrangell-Petersburg Resource Advisory Committee (RAC) has announced its next two meetings. The first meeting will take place at 1 p.m. until 5:15 p.m. (or until the conclusion of public testimony) on Friday, April 21, and from 8 a.m. until 2 p.m., Saturday, April 22, 2006, in Petersburg, Alaska. The second meeting will be a teleconference that will be from 1 p.m. until 5 p.m. (or until the conclusion of business) on Tuesday, May 23, 2006. The purpose of these meetings is to review, discuss and potentially recommend for funding proposals received pursuant to Title II, Public Law 106-393, H.R. 2389, the Secure Rural Schools and Community Self-Determination Act of 2000, also called the “Payments to States” Act. Public testimony regarding the proposals will also be taken.

DATES: The first meeting will be held commencing at 1 p.m. on Friday, April 21, through 2 p.m., Saturday, April 22, 2006. The second meeting will begin at 1 p.m. on Tuesday, May 23, 2006 and is expected to last until approximately 5 p.m.

ADDRESSES: The April meeting will be held at the Petersburg Lutheran Church Holy Cross House, 407 Fram Street, Petersburg, Alaska. The May teleconference will be hosted at the two local Forest Service offices—in Wrangell, at the Wrangell Ranger District, 525 Bennett Street, and in Petersburg, at the Petersburg Ranger District, 12 N. Nordic Drive. Participants may join the teleconference from any telephone. Please contact either of the designated federal officials below to receive the teleconference number. The April meeting will also have teleconference capability.

FOR FURTHER INFORMATION CONTACT: Mark Hummel, Wrangell District Ranger, P.O. Box 51, Wrangell, AK 99929, phone (907) 874-2323, e-mail mhummel@fs.fed.us, or Patty Grantham, Petersburg District Ranger, P.O. Box 1328, Petersburg, AK 99833, phone (907) 772-3871, e-mail pagrantham@fs.fed.us. For further information on RAC history, operations, and the application process, a Web site is available at http://www.fs.fed.us/r10/ro/payments. Once in the Web site, follow the links to the Wrangell-Petersburg Resource Advisory Committee.

SUPPLEMENTARY INFORMATION: These meetings will focus on the review and discussion of proposals received by the RAC for funding under Title II of the Payments to States legislation (Pub. L. 106-393). New information may be introduced concerning these proposals. New proposals (initial reading) may be discussed at these meetings. The committee may make recommendations for project funding at these meetings. A field trip to review proposals proximate to the Petersburg, Alaska, area may take place. The meetings are open to the public. Public input opportunity will be provided and individuals will have the opportunity to address the committee at that time.

Dated: March 6, 2006.
Forrest Cole,
Forest Supervisor.

[FR Doc. 06-2410 Filed 3-13-06; 8:45 am]

BILLING CODE 3410-11-M